DEPARTMENT OF AGRICULTURE

Natural Resources Conservation Service

Notice of Intent To Prepare an Environmental Impact Statement for the Upper Price River Watershed Project, Carbon County, Utah

AGENCY: Natural Resources Conservation Service, USDA.

ACTION: Notice of Intent (NOI) to prepare an Environmental Impact Statement (EIS).

SUMMARY: The Natural Resources Conservation Service (NRCS) Utah State Office announces its intent to prepare an EIS for the Upper Price River Watershed Project within the Upper Price River Watershed in Carbon County, Utah. NRCS is requesting comments to identify significant issues and alternatives to be addressed in the EIS from all interested individuals. The EIS process will examine existing flood control measures and evaluate additional (new) alternatives identified during scoping.

DATES: We will consider comments that we receive by July 6, 2021. Comments received after this date will be considered to the extent possible.

ADDRESSES: We invite you to submit formal scoping comments. You may submit your comments through one of the methods below:

• Email: Info@UpperPriceRiverEIS.com.

• Mail or Hand Delivery: Upper Price River EIS, Horrocks Engineers, 2162 West Grove Parkway, Suite 400, Pleasant Grove, UT 84062.

• Telephone: (435) 922-3882.

To be included on the EIS mailing list, please respond to one of the options above with your contact information. Please note that any respondent's entire scoping comment, including their personal contact information, may be made publicly available at any time during the EIS process.

FOR FURTHER INFORMATION CONTACT: Mr. Norm Evenstad; telephone (801) 524-4569; or email at norm.evenstad@usda.gov.

SUPPLEMENTARY INFORMATION:

Purpose and Need

The primary purpose for watershed planning and preparation of an EIS is to increase and maintain safe and reliable supplies of water for the local community, increase water conservation, and improve water delivery efficiency in the Upper Price River Watershed in Carbon County, Utah. NRCS will provide technical assistance and financial support for the EIS and the implementation of the selected alternative. Watershed planning was authorized under Public Law 83-566, the Watershed Protection and Flood Prevention Act of 1954, as amended, and Public Law 78-534, the Flood Control Act of 1944.

Because of a mismatch between the time when snowpack melts in the Upper Price River Watershed and the time when water is in highest demand for agricultural and municipal uses, several municipalities in Carbon County face regular shortages of water during the summer months and must obtain additional water from other sources.

Initial agency scoping of this federally assisted action indicates that proposed alternatives may have significant local, regional, or national impacts on the environment. Norm Evenstad, NRCS Assistant State Conservationist-Water Resources, has determined that the preparation of an EIS is needed. This EIS will be prepared as required by section 102(2)(C) of the National Environmental Policy Act of 1969 (NEPA); the Council on Environmental Quality Regulations (40 CFR parts 1500-1508); and NRCS regulations that implement NEPA in 7 CFR part 650.

Consultation with Tribal Nations and interested parties will be conducted as required by the National Historic Preservation Act of 1966 (as amended through 1992) (16 U.S.C. 470f).

Description

The project seeks to reduce the regular water shortages several municipalities in Carbon County experience during the summer months. Major problems consist of a lack of water for crops and pasture, fences, farmsteads, machinery, buildings, livestock, county and township roads and bridges, and urban areas in the cities of Price, Helper, and Wellington, as well as Price Canyon and Scofield Reservoir.

The EIS process will evaluate alternatives that will increase and maintain safe and reliable supplies of water for the local community while increasing water conservation, and improving water delivery efficiency in the Upper Price River Watershed.

Watershed planning under the EIS will evaluate the effectiveness, environmental effects, and socio-economic impacts of the original project measures over the last 64 years. The results of these analyses will provide the context for determining the environmental, economic, and social effects of considered alternatives for additional (new) water retention and supply options for the Carbon County municipalities.

Scoping Process

One scoping meeting to present the project and develop the scope of the EIS was held online on Thursday, October 29, 2020. A presentation was conducted followed by a group question-and-answer period. Project team members were available for individual questions and discussions. Comments received, including the names and addresses of those who comment, will be part of the public record.

Alternatives

The objective of the EIS is to formulate and evaluate alternatives that increase and maintain safe and reliable supplies of water for the community, that increase water conservation, and improve water delivery efficiency. Alternatives to be evaluated include the construction of a new reservoir somewhere in the Upper Price River drainage system, to use abandoned coal mines for water storage, to increase water conservation measures, or a combination of these options.

Potential impacts include wetland and flood plain alteration. Permitting with the U.S. Army Corps of Engineers regarding potential wetland impacts will be pursued prior to final design and construction. A draft EIS will be prepared and circulated for review and comment by agencies and the public per 40 CFR 1503.1, 1502.20, 1506.11, 1502.17, and 7 CFR 650.13. NRCS invites agencies and individuals who have special expertise, legal jurisdiction, or interest in the Upper Price River Watershed to participate and identify potential alternatives.

Federal Assistance Programs

The title and number of the Federal assistance program in the Catalog of Federal Domestic Assistance to which this NOFA applies: 10.904 Watershed Protection and Flood Prevention and is subject to the provisions of Executive Order 12372, which requires intergovernmental consultation with State and local officials.

Emily Fife,
State Conservationist, Utah, Natural Resources Conservation Service.

[FR Doc. 2021-11645 Filed 6-2-21; 8:45 am]

BILLING CODE 3410-16-P